DEPARTMENT OF LABOR

Employment and Training Administration

[TA-W-73,218; TA-W-73,218A]

Amended Certification Regarding Eligibility To Apply for Worker Adjustment Assistance

TA-W-73,218

International Business Machines Corporation, ITD Business Unit, Division 7, E-mail and Collaboration Group, Including Workers Off-Site From Various States in the United States Reporting to Armonk, NY

TA-W-73,218A

International Business Machines Corporation, Web Strategy and Enablement Organization, Including Workers Off-Site From Various States in the United, States Reporting to Armonk, NY.

In accordance with Section 223 of the Trade Act of 1974, as amended (“Act”), 19 U.S.C. 2273, the Department of Labor (Department) issued a Certification of Eligibility to Apply for Worker Adjustment Assistance on May 14, 2010, applicable to workers of International Business Machines Corporation (IBM), ITD Business Unit, Division 7, Email and Collaboration Group, including workers off-site from various states in the United States reporting to Armonk, New York. The workers are engaged in employment related to the supply of system server support for e-mail and data servers related to Division 7. The Department's Notice was published in the Federal Register on May 28, 2010 (75 FR 30067).

At the request of workers, the Department reviewed the certification for workers of the subject firm. The company confirmed that workers of the Web Strategy and Enablement Organization provided support to the IDT Business Unit and reported to the Armonk, New York facility. The company also confirmed that a number of workers assigned to the Web Strategy and Enablement Organization are located in various states in the United States and report to the Armonk, New York facility.

Based on these findings, the Department is amending this certification to include workers of International Business Machines Corporation, Web Strategy and Enablement Organization, including workers off-site from various states in the United States reporting to Armonk, New York (TA-W-73,218A).

The amended notice applicable to TA-W-73,218 is hereby issued as follows:

All workers of International Business Machines Corporation (IBM), ITD Business Unit, Division 7, e-mail and Collaboration Group, including workers off-site from various states in the United States reporting to Armonk, New York (TA-W-73,218), and all workers of International Business Machines Corporation (IBM), Web Strategy and Enablement Organization, including workers off-site from various states in the United States reporting to Armonk, New York (TA-W-73,218A), who became totally or partially separated from employment on or after January 6, 2009, through May 14, 2012, and all workers in the group threatened with total or partial separation from employment on May 14, 2010 through May 14, 2012, are eligible to apply for adjustment assistance under Chapter 2 of Title II of the Trade Act of 1974, as amended.

Signed in Washington, DC this 25th day of July, 2011.
Del Min Amy Chen,
Certifying Officer, Office of Trade Adjustment Assistance.

[FR Doc. 2011-20526 Filed 8-11-11; 8:45 am]

BILLING CODE 4510-FN-P